ENVIRONMENTAL PROTECTION AGENCY

[FRL-8274-5]

Proposed National Pollutant Discharge Elimination System (NPDES) General Permits for Storm Water Discharges From Industrial Activities—Extension of Comment Period

AGENCY: Environmental Protection Agency (EPA).

ACTION: Notice; extension of comment period.

SUMMARY: On December 11, 2006 (71 FR 71540), EPA published a notice of the availability of Seven (7) National Pollutant Discharge Elimination System (NPDES) General Permits for Storm Water Discharges from Industrial Activities and requested comments on the draft by January 10, 2007. The purpose of this notice is to extend this comment period to February 13, 2007.

DATES: Comments on the proposed general permits must be received by February 13, 2007.

ADDRESSES: Comments may be submitted electronically, by mail, or through hand delivery/courier. Send written comments to: Greg Davis (8P-W-WW); Attention: NPDES Permits; U.S. EPA, 1595 Wynkoop Street; Denver, CO 80202. Public comments will also be accepted via electronic mail (E-mail) at davis.gregory@epa.gov.

FOR FURTHER INFORMATION CONTACT: For a copy of the draft permit and fact sheet or for further information on the draft permit, contact either Greg Davis (303) 312-6314 (davis.gregory@epa.gov) at the above address or Ellen Bonner, (303) 312-6371 (bonner.ellen@epa.gov), at U.S. EPA Region 8 (8P-W-WW); 1595 Wynkoop Street; Denver, CO 80202. Copies of the draft permit and Fact Sheet may be downloaded from the EPA Region 8 Web site at http://www.epa.gov/region8/water/stormwater.

SUPPLEMENTARY INFORMATION: Effective January 17, 2007, the Office of Partnerships and Regulatory Assistance for EPA Region 8 will be located in a new office at 1595 Wynkoop Street. Commenters are encouraged to use the Wynkoop Street address for all comments submitted, however, comments submitted to the EPA office at 999 18th Street in Denver will be forwarded to the new office location.

Dated: January 8, 2007.
Stephen S. Tuber,
Assistant Regional Administrator, Office of Partnerships and Regulatory Assistance.

[FR Doc. E7-1426 Filed 1-29-07; 8:45 am]

BILLING CODE 6560-50-P